DEPARTMENT OF THE INTERIOR

National Park Service

[NPS-OIA-WASO-10326:0050-673]

U.S. Nominations to the World Heritage List: San Antonio Franciscan Missions

AGENCY: National Park Service, Interior.

ACTION: Second Notice.

SUMMARY: This notice announces the decision to request that a draft nomination of the San Antonio Franciscan Missions for inclusion on the World Heritage List be prepared. The decision is the result of review of public comments submitted in response to an earlier notice and of consultation with the Federal Interagency Panel for World Heritage. The notice also summarizes the National Park Service's evaluation of public comments on other candidates for nomination to the World Heritage List.

FOR FURTHER INFORMATION CONTACT: Jonathan Putnam, 202-354-1809 or April Brooks, 202-354-1808. To request paper copies of documents discussed in this notice, contact April Brooks, Office of International Affairs, NPS, 1201 Eye Street NW., (0050) Washington, DC 20005. Email: april_brooks@nps.gov.

SUPPLEMENTARY INFORMATION:

What is the World Heritage List?

The World Heritage List is an international list of cultural and natural properties nominated by the signatories to the World Heritage Convention (1972). The United States was the prime architect of the Convention, an international treaty for preservation of natural and cultural heritage sites of global significance proposed by President Richard M. Nixon in 1971, and the U.S. was the first nation to ratify it. The United States served its fourth term on the World Heritage Committee from 2005-2009. The Committee, composed of representatives of 21 nations periodically elected as the governing body of the World Heritage Convention, makes the final decisions on which nominations to accept on the World Heritage List at its annual meeting each summer.

There are 936 sites in 153 of the 189 signatory countries. Currently there are 21 World Heritage Sites in the United States. U.S. participation and the roles of the Department and the National Park Service (NPS) are authorized by Title IV of the Historic Preservation Act Amendments of 1980 and conducted in accordance with 36 CFR 73—World Heritage Convention. NPS serves as the principal technical agency for World Heritage in the Department, which has the lead role for the U.S. Government in the implementation of the Convention and manages all or parts of 17 of the 21 U.S. World Heritage Sites, including Yellowstone National Park, the Everglades, and the Statue of Liberty.

What is the tentative list?

A tentative list is a national list of natural and cultural properties appearing to meet the World Heritage Committee eligibility criteria for nomination to the World Heritage List. A country cannot nominate a property unless it has been on its tentative list for a minimum of a year. Countries are limited to nominating no more than two sites in any given year. If two sites are nominated, at least one must be a natural site or a cultural landscape.

Neither inclusion in the tentative list nor inscription as a World Heritage Site imposes legal restrictions on owners or neighbors of sites, nor does it give the United Nations any management authority or ownership rights in U.S. World Heritage Sites, which continue to be subject only to U.S. law. Inclusion in the tentative list merely indicates that the property may be further examined for possible World Heritage nomination in the future.

The World Heritage Committee's Operational Guidelines ask participating nations to provide tentative lists, which aid in evaluating properties for the World Heritage List on a comparative international basis and help the Committee to schedule its work over the long term. The Guidelines recommend that a nation review its tentative list at least once every decade.

How the Nomination Process Works

NPS regulations at 36 CFR part 73 establish the process for making nominations to the World Heritage List. This process ensures that the Congress, property owners, and the public are notified of and can comment on proposed nominations. Under the process, the Department notifies the public as follows:

• The Department publishes a first notice in the Federal Register containing the tentative list and asks for recommendations regarding which properties on it should be nominated.

• The Department reviews comments received as a result of the notice, consults with the Federal Interagency Panel on World Heritage and decides which properties should be nominated next.

• The Department publishes a second notice containing the list of proposed nominations.

This is the second notice as required by 36 CFR 73.7(f) on the proposed nomination of the San Antonio Franciscan Missions.

NPS prepared and submitted (through the Secretary of the Interior and the Secretary of State) to the World Heritage Centre of UNESCO on January 24, 2008, an updated tentative list. The tentative list was published in the Federal Register on March 19, 2008. The process for developing the U.S. tentative list is detailed on the NPS Office of International Affairs Web site at: http://www.nps.gov/oia/topics/worldheritage/worldheritage.htm.

First Notice Published on March 5, 2012

On March 5, 2012, the Department requested public comment on which property or properties on the U.S. World Heritage tentative list should be nominated next by the United States to the World Heritage List. This was the First Notice in the Federal Register, as required by 36 CFR 73.7(c). The tentative list consists of properties that appear to qualify for World Heritage status and that may be considered for nomination by the United States to the World Heritage List. The current tentative list was transmitted to the UNESCO World Heritage Centre on January 24, 2008.

In the notice published on March 5, 2012, the Department requested comment on which properties on the U.S. World Heritage tentative list should be nominated to the World Heritage List. After reviewing public comments and consulting with the Federal Interagency Panel for World Heritage, the Department has selected the San Antonio Franciscan Missions as a proposed nomination to the World Heritage List. With the assistance of the Department, the owners of this group of sites are encouraged to prepare a complete nomination document in accordance with 36 CFR Part 73 and the nomination format required by the World Heritage Committee.

Two other properties, “Frank Lloyd Wright Buildings” and “Poverty Point State Historic Site and National Monument,” were selected to prepare nominations in 2011, and these documents are currently being drafted.

The Panel also considered comments on possible additions to the tentative list. The Department, on advice of the Panel, will work with the U.S. National Commission for UNESCO (the United Nations Educational, Scientific and Cultural Organization) to develop a process to revise the tentative list by 2016.

A discussion of the decisions, the nomination process and schedule, a summary of the comments received, and a description of the properties comprising the Missions group follows.

Recommendations of the Federal Interagency Panel for World Heritage

The Federal Interagency Panel for World Heritage assists the Department in implementing the Convention by making recommendations on U.S. World Heritage policy, procedures, and nominations. The Panel is chaired by the Assistant Secretary for Fish and Wildlife and Parks and includes representatives from various Federal Departments and agencies with Federal land management and policy-making responsibilities. The Panel made its recommendations to the Department on the next U.S. World Heritage nomination at a meeting on May 1, 2012.

The Panel agreed by consensus to support the preparation of a nomination at this time for the San Antonio Franciscan Missions. The Panel reviewed the progress of the two nominations already under preparation and the public suggestions for nominations for other properties at this time from the U.S. World Heritage tentative list. They did not recommend the preparation of nominations for any additional or alternate properties, although they acknowledged the substantial effort underway to prepare for a nomination of the “Hopewell Ceremonial Earthworks” in Ohio. Panel members emphasized the considerable work and cost involved in developing nomination documents, and wanted to ensure that the number of nominations under development will not exceed the Department's capacity to ensure the high quality that will give them the best possible chance of success when considered by the World Heritage Committee.

Decision To Request the Preparation of a New U.S. World Heritage Nomination

The Department considered all comments received during the comment period as well as the advice of the Federal Interagency Panel for World Heritage in making the decisions to request drafts for a new U.S. World Heritage nomination.

A brief description is provided for this potential nomination along with a summary of the comments that were received and considered as part of this process. The Department will decide whether to nominate this group of sites to the World Heritage List based on a complete draft World Heritage nomination, when it is available. A draft World Heritage nomination is requested of the owners for the following sites:

San Antonio Franciscan Missions:

• Mission San Antonio (The Alamo)

• Mission Concepción

• Mission San José

• Mission San Juan

• Mission Espada

The modern city of San Antonio, Texas, has grown up around this group of five Spanish Roman Catholic mission complexes that were built in stages from 1724 to 1782 as open villages within walled compounds. This unusual grouping of missions is a uniquely complete illustration of the experience of the Franciscan missionaries and their interaction with the indigenous peoples on the northern frontier of the Spanish American empire in the 18th century. The religious, economic, and technological systems of the missionaries created settled communities that became the basis of the U.S. Southwest's distinctive ethnic mixture. The churches in the mission complexes, except for Mission San Antonio, are still in active use.

The Department received a large number of comments on this proposal, including over 15,000 expressions of support in response to an appeal by the National Parks Conservation Association. Specific comments by organizations and individuals involved in the nomination effort cited a broad range of civic support, including funding and other resources from both governmental and private sources. One comment recommended that the group should be considered as an extension to the Mexican missions of the Sierra Gorda already on the World Heritage List, and another said that the justification for World Heritage listing needs to address the context of Spanish missions in the Americas, and that it will be important to define the boundary carefully to support the group's integrity; also that the system of acequias may merit nomination on their own. The Panel also discussed concerns and questions about the nature and appropriateness of reconstruction work that was done at the missions in the 1930s.

The Department notes that a recent meeting of experts in the topic in San Antonio, including Mexican World Heritage officials, concluded that the justification for the San Antonio missions would be sufficiently different from that of the Mexican listing that they should be nominated separately. Regarding the justification and other related issues, the Department is committed to working closely with those preparing the nomination to ensure that these issues, as well as the questions regarding the 1930s reconstruction work, will be appropriately addressed.

Decision To Study Revisions to the U.S. World Heritage Tentative List

Over the past two years, both during official public comment periods and otherwise, approximately 100 suggestions for potential additions to the tentative list have been made to the Department. A number of suggestions have also been made regarding the methodology of selecting properties for the tentative list. The Operational Guidelines of the World Heritage Committee recommend that countries update their tentative lists approximately once every 10 years. The current U.S. tentative list was established in 2008.

The Department, on advice of the Panel, will initiate a process in cooperation with the U.S. National Commission for UNESCO, a commission of the U.S. Department of State, to develop an appropriate method to update the U.S. tentative list with a target of completing the update in 2016, the year of the centennial of the National Park Service.

Next Steps in the Nomination of the Franciscan Missions

A draft World Heritage nomination for the “San Antonio Franciscan Missions” may now be prepared. If it is submitted in substantially complete draft form to the NPS by May 1, 2013, a nomination may potentially be submitted to the UNESCO World Heritage Centre by the United States by February 1, 2014, if the Department deems the nomination ready. The World Heritage nomination format may be found at the World Heritage Centre Web site at http://whc.unesco.org/en/guidelines. NPS will coordinate the review and evaluation of the draft nomination. Preliminary drafts should be submitted to the NPS for review prior to the complete draft referred to above.

Following NPS review of the draft, the Department may submit complete draft nominations to the World Heritage Centre for technical review by September 30 of any year. The Centre will then provide comments by November 15 of that year. The Federal Interagency Panel for World Heritage will review draft nominations following receipt of the Centre's comments. The Interagency Panel will evaluate the adequacy of the nominations, the significance of the properties and whether the nominations should be forwarded to the World Heritage Centre for formal consideration for listing. Final submittal to the World Heritage Centre by the Department through the Department of State is required by February 1 of any year in order for the properties to be considered in the next cycle of nominations to the World Heritage List. Submittal of final nominations must be made no later than that date for the World Heritage Committee to be able to consider them at its annual meeting in the summer of the following year.

Protective measures must be in place before a property may be nominated as provided for in 36 CFR 73.13. If a nomination cannot be completed in accordance with this timeline, work may continue into the following year(s) for subsequent submission to UNESCO.

Comments on Other Sites Included in the Notice of March 5, 2012

In the notice published on March 5, 2012 (77 FR 13147-13149), the Department requested comments on which of the sites on the tentative list should be nominated next by the United States. Comments were accepted through March 19, 2012, fifteen days from the date of publication of the notice in the Federal Register. Respondents were asked to address the qualifications of the tentative list properties for nomination by the United States to the World Heritage List.

A summary of the comments received appears below organized by site, along with the Department's responses as appropriate. Comments on the site that is now authorized to prepare a nomination appear in the discussion of the decision above. The Department received 37 comments in addition to over 15,000 responses to an appeal from the National Parks Conservation Association to support the San Antonio Franciscan Missions. The comments were also available to the Federal Interagency Panel for World Heritage and to the Department of the Interior officials who have selected the properties that are asked to prepare nominations. The full texts of all the comments are available upon request.

Comments were also sought on potential additions to the tentative list. These comments are on file to be considered by the Federal Interagency Panel and the Department in due course.

Comments on Cultural Sites Included in the March 5 Notice

Civil Rights Movement Sites, Alabama. Dexter Ave. King Memorial Baptist Church, Montgomery; Bethel Baptist Church, Birmingham; 16th St. Baptist Church, Birmingham:

The Department received two comments. Both recommended that a variety of additional sites be added to the grouping to more comprehensively represent the topic, and one of them recommended that the Department undertake this work and nominate the sites in 2013.

The Department agrees that additional sites will need to be added before this proposal could be considered for nomination, and plans to explore such an effort with the assistance of the U.S. National Commission for UNESCO. The Panel also noted that it would be necessary to justify another World Heritage criterion in addition to the tentatively identified criterion (vi), for association with ideas and events, which the World Heritage Committee no longer accepts as a sole criterion.

Dayton Aviation Sites, Ohio: Wright Cycle Company and Wright & Wright Printing; Huffman Prairie Flying Field; Wright Hall; Hawthorn Hill. The Department received three comments: one expressed general support. The others recommended that the Wright Brothers National Memorial at Kitty Hawk, North Carolina be added. One also suggested inclusion of the original Wright Flyer also be included and that Hawthorne Hill's inclusion should be reconsidered; the other suggested consideration of a transnational serial nomination with other countries of early flight resources.

The Department acknowledges that some of the components of this proposal may have difficulties in meeting the technical requirements of the World Heritage Committee, and that such issues would have to be resolved before a nomination could be made. The Wright Brothers National Memorial was nominated unsuccessfully in 1981 by the United States, and the Department believes that the issues raised at that time may still affect a potential nomination.

Hopewell Ceremonial Earthworks, Ohio: Fort Ancient State Memorial; Hopewell Culture National Historical Park; Newark Earthworks State Memorial. The Department received 10 comments: three expressed general support, and five, including from the organizations that own the sites, provided more specific information on the ability of the sites to satisfy the World Heritage criteria and of the proponents to prepare a nomination. These include a workshop held at the sites in November 2011, which discussed how to address the criteria and issues of integrity and authenticity, and concluded that they would not attempt to include Serpent Mound in the proposal.

Follow-up actions from the workshop have included establishment of a “Friends of the Ohio Earthworks” organization, which is raising funds and hiring a consultant to work on the nomination. Tribal government support was also cited. The other two comments recommended that this type of site is adequately represented already, and should not be nominated at this time, or should be proposed as an extension to Cahokia Mounds, along with Serpent Mound and Poverty Point.

The Department acknowledges the substantial work being done by the committee in Ohio, and believes that this group of sites has good prospects for nomination. Regarding the other comments, the Department notes that Poverty Point has already been authorized to prepare a separate nomination, and has determined that the archeological sites in Louisiana, Illinois and Ohio are sufficiently culturally distinct to merit separate World Heritage listing.

Thomas Jefferson Buildings, Virginia: Poplar Forest, Bedford County; State Capitol, Richmond: The Department received two comments. One stated that this would be the most straightforward nomination from the properties now on the tentative list, and would complete the Jefferson theme. The other recommended against the extension of a property already listed as a priority for nomination, and noted that Poplar Forest may not add greatly to the listing. The Department acknowledges that the issue raised in the latter comment will need to be considered.

Mount Vernon, Virginia. The Department received two comments with various suggestions for how this site, which was unsuccessfully nominated in 2009, might be reformulated for possible nomination again in the future.

Serpent Mound State Memorial, Ohio. The Department received three comments: one expressed general support. The other two recommended that this type of site is adequately represented already, and should not be nominated at this time, or should be proposed as an extension to Cahokia Mounds, along with Hopewell Ceremonial Culture and Poverty Point. The Department notes that Poverty Point has already been authorized to prepare a separate nomination; and has determined that the archeological sites in Louisiana, Illinois and Ohio are sufficiently culturally distinct to merit separate World Heritage listing.

Natural Sites

No comments were received on these four sites:

• Fagatele Bay National Marine Sanctuary

• Okefenokee National Wildlife Refuge

• Petrified Forest National Park

• White Sands National Monument

Before including your address, phone number, email address, or other personal identifying information in your comment, you should be aware that your entire comment, including your personal identifying information, may be made publicly available at any time. While you can ask us in your comment to withhold your personal identifying information from public review, we cannot guarantee that we will be able to do so.

Authority: 16 U.S.C. 470 a-1, a-2, d; 36 CFR 73.

Dated: June 4, 2012.
Rachel Jacobson,
Acting Assistant Secretary for Fish and Wildlife and Parks.

[FR Doc. 2012-15586 Filed 6-25-12; 8:45 am]

BILLING CODE 4312-52-P